DEPARTMENT OF THE TREASURY

Office of Foreign Assets Control

Sanctions Actions Pursuant to Executive Order 13582

AGENCY: Office of Foreign Assets Control, Treasury.

ACTION: Notice.

SUMMARY: The Treasury Department's Office of Foreign Assets Control (“OFAC”) is removing the name of an entity and individual whose property and interests in property have been blocked pursuant to Executive Order 13582 of August 17, 2011, “Blocking Property of the Government of Syria and Prohibiting Certain Transactions With Respect to Syria,” from the List of Specially Designated Nationals and Blocked Persons (SDN List).

DATES: The removal of this entity and individual from the SDN List is effective as of August 30, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treasury.gov/ofac).

Notice of OFAC Actions

On August 30, 2016, OFAC determined that circumstances no longer warrant the inclusion of the following entity and individual on OFAC's SDN list, and that this entity and individual are no longer subject to the blocking provisions of Section 1(b) of Executive Order 13582:

• DK GROUP SARL (a.k.a. DK GROUP; a.k.a. DK MIDDLE-EAST & AFRICA REGIONAL OFFICE), Peres Lazaristes Center, No 3, 5th Floor, Emir Bachir Street, Beirut Central District, Bachoura Sector, Beirut, Lebanon; Azarieh Building—Block 03, 5th Floor, Azarieh Street—Solidere—Downtown, P.O. Box 11-503, Beirut, Lebanon; Web site http://www.dk-group.biz; Registration ID 2004405 (Lebanon) [SYRIA].

• DAGHER, Jad (a.k.a. DAGHER, Jade Adel), Dagher Building, 3rd Floor, Bikfaya, Metn, Lebanon; DOB 1976; nationality Lebanon; General Manager at DK Middle-East & Africa Regional Office (individual) [SYRIA] (Linked To: DK GROUP SARL).

Dated: August 30, 2016.
Andrea Gacki,
Acting Director, Office of Foreign Assets Control.

[FR Doc. 2016-21794 Filed 9-9-16; 8:45 am]

BILLING CODE 4810-AL-P